DEPARTMENT OF TREASURY

Office of the General Counsel; Appointment of Members of the Legal Division to the Performance Review Board, Internal Revenue Service

Under the authority granted to me as Chief Counsel of the Internal Revenue Service by the General Counsel of the Department of the Treasury by General Counsel Directive 15, pursuant to the Civil Service Reform Act, I have appointed the following persons to the Legal Division Performance Review Board, Internal Revenue Service Panel:

1. Chairperson, Erik Corwin, Deputy Chief Counsel (Technical)

2. John Moriaty, Deputy Associate Chief Counsel (Income Tax and Accounting)

3. Ted Cronin, Division Counsel (Criminal Tax)

4. Tom Vidano, Deputy Division Counsel (Large Business and International)

5. Curtis G. Wilson, Associate Chief Counsel (Passthroughs and Special Industries)

Alternate—Linda Horowitz, Deputy Associate Chief Counsel (General Legal Services)

This publication is required by 5 U.S.C. 4314(c)(4).

Dated: October 8, 2014.
William J. Wilkins,
Chief Counsel, Internal Revenue Service.

[FR Doc. 2014-24654 Filed 10-16-14; 8:45 am]

BILLING CODE 4380-01-P